ENVIRONMENTAL PROTECTION AGENCY

[FRL-7133-3]

Proposed Settlement Under Section 122(h) of the Comprehensive Environmental Response and Liability Act

AGENCY: Environmental Protection Agency.

ACTION: Notice of proposed administrative settlement and opportunity for public comment—Asbestos Dump Superfund Site.

SUMMARY: The United States Environmental Protection Agency (“EPA”) is proposing to enter into an administrative settlement to resolve certain claims under the Comprehensive Environmental Response and Liability Act of 1980, as amended (“CERCLA”). Notification is being published to inform the public of the proposed settlement and of the opportunity to comment. This settlement is intended to resolve the liability of the owners of the White Bridge Road property within the Asbestos Dump Superfund Site (“White Bridge Road Site”) for certain response costs incurred by EPA at the White Bridge Road Site in Long Hill Township, Morris County, New Jersey.

DATES: Comments must be provided on or before February 27, 2002.

ADDRESSES: Comments should be addressed to the United States Environmental Protection Agency, Office of Regional Counsel, 290 Broadway—17th Floor, New York, New York 10007, and should refer to: In the Matter of the Asbestos Dump Superfund Site: Administrative Settlement, U.S.E.P.A. Index No. 02-2001-2017.

FOR FURTHER INFORMATION CONTACT: U.S. Environmental Protection Agency, Office of Regional Counsel, 290 Broadway—17th Floor, New York, New York 10007; Attention: Virginia A. Curry, Esq. (212) 637-3134 or curry.virginia@epa.gov.

SUPPLEMENTARY INFORMATION: In accordance with section 122(h) of CERCLA, notification is hereby given of a proposed administrative settlement with Joyce and David Major, the owners of a property within the Asbestos Dump Site. David Major arranged for the disposal of asbestos waste on his property. This settlement, in which the Majors will pay EPA $5000 toward its unreimbursed costs at the Site, is based on the Majors' demonstrated limited ability to pay the full amount of the unreimbursed costs. Section 122(h) authorizes EPA to compromise claims with the approval of the Attorney General and the Attorney General has approved the settlement.

Dated: January 11, 2002.
Jane M. Kenny,
Regional Administrator, Region 2.

[FR Doc. 02-2012 Filed 1-25-02; 8:45 am]

BILLING CODE 6560-50-P